DEPARTMENT OF THE INTERIOR

Fish and Wildlife Service

[FWS-R3-R-2012-N122; FXRS1265030000S3-123-FF03R06000]

The Great Lakes Islands National Wildlife Refuges in Michigan and Wisconsin

AGENCY: Fish and Wildlife Service, Interior.

ACTION: Notice of availability; request for comments.

SUMMARY: We, the U.S. Fish and Wildlife Service (Service), announce the availability of a draft comprehensive conservation plan (CCP) and environmental assessment (EA) for the Great Lakes Islands National Wildlife Refuges (NWR) for public review and comment. The group of five national wildlife refuges includes Gravel Island and Green Bay National Wildlife Refuges, Door County, Wisconsin; Harbor Island National Wildlife Refuge, Chippewa County, Michigan; Huron National Wildlife Refuge, Marquette County, Michigan; and Michigan Islands National Wildlife Refuge, Charlevoix, Arenac, and Alpena Counties, Michigan. In this draft CCP/EA we describe how we propose to manage these refuges for the next 15 years.

DATES: To ensure consideration, we must receive your written comments by September 24, 2012. We will hold open house-style meetings during the comment period to receive comments and provide information on the draft plan. In addition, we will use special mailings, newspaper articles, internet postings, and other media announcements to inform people of opportunities for input.

ADDRESSES: Send your comments or requests for more information by any one of the following methods:

• Email: r3planning@fws.gov. Include “Great Lakes Islands Draft CCP/EA” in the subject line of the message.

• Fax:

○ Attention: Refuge Manager, Gravel/Green Bay NWRs, 920-387-2973.

○ Attention: Refuge Manager, Huron/Harbor Island/MI Islands (N) NWRs, 906-586-3800.

○ Attention: Refuge Manager, Michigan Islands (S) NWR, 989-777-9200.

• U.S. Mail:

○ Attention: Steve Lenz, Refuge Manager, Gravel Island/Green Bay National Wildlife Refuges (managed by Horicon NWR), W4279 Headquarters Road, Mayville, WI 53050; 920-387-2658.

○ Attention: Mark Vaniman, Refuge Manager, Harbor Island/Huron/Michigan Islands National Wildlife Refuges (northern section managed by Seney NWR), 1674 Refuge Entrance Rd., Seney, MI 49883; 906-586-9851.

○ Attention: Steve Kahl, Refuge Manager, Michigan Islands National Wildlife Refuge (southern section managed by Shiawassee NWR), 6975 Mower Road, Saginaw, MI 48601; 989-777-5930.

• In-Person Drop Off: You may drop off comments during regular business hours at the above addresses.

You will find the draft CCP/EA, as well as information about the planning process and a summary of the CCP, on the planning Web site: http://www.fws.gov/midwest/planning/GreatLakesIslands/index.html.

FOR FURTHER INFORMATION CONTACT: Steve Lenz, Gravel Island or Green Bay National Wildlife Refuges, 920-387-2658; Mark Vaniman, Harbor Island, Huron, or the northern section of Michigan Islands National Wildlife Refuges, 906-586-9851; Steve Kahl, southern section of Michigan Islands National Wildlife Refuge, 989-777-5930.

SUPPLEMENTARY INFORMATION:

Introduction

With this notice, we continue the process for developing a comprehensive conservation plan (CCP) for the Great Lakes Islands National Wildlife Refuges. We began this process by publishing a notice of intent in the Federal Register (73 FR 76677) on December 17, 2008. For more about the initial process and the history of this refuge, see that notice.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The draft CCP/EA may be found at http://www.fws.gov/midwest/planning/GreatLakesIslands/index.html. That document incorporates an EA, prepared in accordance with the National Environmental Policy Act (NEPA) (43 U.S.C. 4321 et seq.). The draft CCP/EA includes detailed information about the planning process, refuge, issues, and management alternatives considered and proposed. The EA includes discussions of three alternative refuge management options. The Service's preferred alternative is reflected in the draft CCP.

The alternatives analyzed in detail include:

• Alternative A: Current Direction To Maintain Natural Integrity—The current management direction of the Great Lakes Islands NWRs would be maintained under this alternative. For NEPA purposes, this is referred to as the “No Action” alternative.

• Alternative B: Minimal Management To Preserve Wilderness Qualities—Management actions would be focused to retain the wilderness character of each island to the extent practical. Public access and visitor services would be kept to a minimal level in order to reduce visual and habitat impacts.

• Alternative C (Preferred Alternative): Enhanced Management To Promote Natural Integrity and Public Stewardship—This option would provide for the growth of the island refuges and more opportunities for compatible recreational use.

Public Involvement

We will give the public an opportunity to provide input at a public meeting. You can obtain the schedule from the address or web site listed in this notice (see ADDRESSES). You may also submit comments anytime during the comment period.

Public Availability of Comments

Before including your address, phone number, email address, or other personal identifying information in your comment, you should be aware that your entire comment—including your personal identifying information—may be made publicly available at any time. While you can ask us in your comment to withhold your personal identifying information from public review, we cannot guarantee that we will be able to do so.

Richard D. Schultz,
Acting Regional Director, Midwest Region, U.S. Fish and Wildlife Service.

[FR Doc. 2012-20847 Filed 8-23-12; 8:45 am]

BILLING CODE 4310-55-P